FEDERAL COMMUNICATIONS COMMISSION

Notice of Public Information Collection(s) Being Submitted to OMB for Review and Approval

December 12, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 28, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION OMB Control Number: 3060-0053.

Title: Application for Consent to Transfer of Control of Corporation Holding Station License.

Form Number: FCC Form 703.

Type of Review: Revision of a currently approved collection.

Respondents: Business or other for-profit entities; Not-for-profit institutions.

Number of Respondents: 40.

Estimated Time Per Response: 36 mins.

Frequency of Response: On occasion reporting requirement; Third party disclosure.

Total Annual Burden: 24 hrs.

Total Estimated Cost: $2,000.

Needs and Uses: The Communications Act of 1934, as amended, and 47 CFR 5.59 of FCC Rules require applicants for Experimental Radio Services to submit FCC 703 when they propose to change, via a transfer of stock ownership, the control of a station. This information is used to determine eligibility for licenses, without which, violations of ownership regulations may occur. The FCC has made various revisions to Form 703: (1) Expiration date was deleted; (2) public coast and common carrier Alaska public fixed stations questions were removed; (3) fee multiple was deleted; (4) “FOR FCC USE ONLY” field was removed; (5) fields were added for the transferee's address and contact information to include an “Attention” field; (6) field labeled “FCC Registration Number (FRN)” was added; (7) Internet URL address was added; (8) references to item numbers were changed to match the change in the form numbering; (9) instructions pertaining to FCC Forms 159 and 160 were added; (11) only Experimental Radio Service regular and courier addresses are given; and (12) instructions were revised.

OMB Control Number: 3060-0057.

Title: Application for Equipment Authorization, 47 CFR Sections 2.911, 2.925, 2.932, 2.944, 2.960, 2.1033(a), and 2.1043.

Form Number: FCC 731.

Type of Review: Revision of currently approved collection.

Respondents: Business or other for-profit entities.

Number of Respondents: 5,600.

Estimate of Time Per Response: 24 hrs. (avg.)

Frequency of Response: On occasion reporting requirements; Third party disclosure.

Total Annual Burden: 134,400.

Total Annual Costs: $1,120,000.

Needs and Uses: Under sections of 47 CFR parts 15 and 18 of FCC Rules, regulated equipment must comply with the FCC's technical standards before it is approved for marketing. Rules governing certain equipment operating in the licensed service also require equipment authorization under 47 CFR part 2. On September 13, 2001, the FCC adopted a First Report and Order, ET Docket No. 00-47, that established a “Class III Permissive Change.” Manufacturers can now make changes affecting the frequency, power, and modulation parameters of software defined radios without having to file a new equipment authorization application. However, new software can not be loaded into radios until the FCC or a designated Telecommunications Certification Body (TCB) approves the manufacturer's software changes and test data showing compliance with FCC technical standards using the new software. In addition, the FCC now allows “electronic labeling” for software defined radio transmitters'a liquid crystal display or similar screen displays the FCC identification number.

OMB Control Number: 3060-0805.

Title: Section 90.523, Eligibilty; Section 90.527, Regional Plan Requirements, and Section 90.545, TV/DTV Interference Protection Criteria.

Form Number: N/A.

Type of Review: Extension of a currently approved collection.

Respondents: Business or other for-profit entities; and Not-for-profit institutions.

Number of Respondents: 26,656.

Estimated Time per Response: 0.25 hrs. to 10,000 hrs.

Frequency of Response: On occasion reporting requirements; Third party disclosure.

Total Annual Burden: 647, 675.

Total Annual Costs: None.

Needs and Uses: The First Report and Order, FCC 98-191, in WT Docket No. 96-86, amended service rules to make the spectrum available for licensing public safety entities. To satisfy local and regional needs and preferences, the FCC has required submission of regional plans drafted by planning committees made up of representatives from the public safety community. Creation of these plans necessarily imposes some burden, both on the eligible entities that make their needs known and on planners who seek to accommodate them.

OMB Control Number: 3060-0934.

Title: Application for Equipment Authorization, 47 CFR Sections 2.925, 2.932, 2.944, 2.960, 2.962, 2.1043, 68.160, and 68.162.

Form Number: FCC TCB 731.

Type of Review: Revision of currently approved collection.

Respondents: Business or other for-profit entities.

Number of Respondents: 25.

Estimated Time Per Response: 4 hrs.

Frequency of Response: On occasion reporting requirements; Third party disclosure.

Total Annual Burden: 6,400 hrs.

Total Annual Cost: $175,000.

Needs and Uses: Under 47 CFR parts 15 and 18 of FCC Rules, certain equipment must comply with FCC technical standards before it can be marketed. Equipment that operates in the licensed service requires FCC authorization under 47 CFR parts 2 and 68. Since its 1998 Report and Order, Docket No. 98-68, the FCC has permitted a private sector firm or “Telecommunications Certification Body” (TCB) to approve equipment for marketing and has also established guidelines for “Mutual Recognition Agreements” with foreign trade partners. Once approved by the accrediting body and “designated” by the FCC, TCBs may accept Form 731 filings and evaluate the equipment's compliance with FCC Rules and technical standards. TCBs submit this information to the FCC via the Internet. On September 13, 2001, the FCC adopted a First Report and Order, ET Docket No. 00-47, that established a “Class III Permissive Change” to permit manufacturers to make changes affecting frequency, power, and modulation parameters of “software defined radios” without having to file a new equipment authorization application. The manufacturer must submit a description of the software changes to the FCC or a designated TCB. The FCC permits “electronic labeling” to be used on software defined radio transmitters.

Federal Communications Commission.
Magalie Roman Salas,
Secretary.

[FR Doc. 01-31862 Filed 12-27-01; 8:45 am]

BILLING CODE 6712-01-P